DEPARTMENT OF COMMERCE

International Trade Administration

[A-570-846]

Brake Rotors from the People's Republic of China: Extension of Time Limit for the Final Results of the 2005-2006 Administrative and New Shipper Reviews

AGENCY: Import Administration, International Trade Administration, Department of Commerce.

EFFECTIVE DATE: June 11, 2007.

FOR FURTHER INFORMATION CONTACT: Jennifer Moats, AD/CVD Operations, Office 8, Import Administration, International Trade Administration, U.S. Department of Commerce, 14th Street and Constitution Avenue, NW, Washington DC 20230; telephone: (202) 482-5047.

SUPPLEMENTARY INFORMATION:

Background

On February 15, 2007, the Department of Commerce (the “Department”) published the preliminary results of the 2005-2006 administrative and new shipper reviews and partial rescission of the 2005-2006 administrative review of the antidumping order on brake rotors from the People's Republic of China (“PRC”) for the April 1, 2005, through March 31, 2006, period. See Brake Rotors from the People's Republic of China: Preliminary Results of the 2005-2006 Administrative and New Shipper Reviews and Partial Rescission of the 2005-2006 Administrative Review, 72 FR 7405 (February 15, 2007). The final results of the review are currently due on June 15, 2007. On March 5, 2007, Longkou Haimeng Machinery Co., Ltd., Qingdao Meita Automotive Industry Co., Ltd., Yantai Winhere Auto-Part Manufacturing Co., Ltd, Laizhou Auto Brake Equipment Company Ltd., Laizhou Hongda Auto Replacement Parts Co., Ltd., and Laizhou City Luqi Machinery Co., Ltd., requested a 28-day extension of time to submit publicly available information to value the factors of production. On March 6, 2007, the Department issued a letter to all interested parties granting the requested 28-day extension of time to submit publicly available information to value the factors of production. In that letter, the Department stated that it was postponing the briefing schedule until further notice pending the release of the verification report of Shandong Huanri Group Co., Ltd., Shandong Huanri Group General Co., and Laizhou Huanri Automobile Parts Co., Ltd. (collectively “Huanri”). From March 20, 2007, through March 22, 2007, the Department verified the Section A and quantity and value questionnaire response of Huanri in Panjia Village, Laizhou, PRC. On May 4, 2007, the Department issued the verification report for Huanri. See Memorandum to the File through Wendy J. Frankel, Office Director, and Robert Bolling, Program Manager, From Eugene Degnan, Senior International Trade Analyst, and Paul Stolz, International Trade Compliance Analyst, entitled, “Antidumping Duty Administrative Review of Brake Rotors from the People's Republic of China: Verification of Section A and Quantity and Value Response of Shandong Huanri Group Co., Ltd., Laizhou Huanri Automobile Parts Co., Ltd., and Shandong Huanri Group General Co.” On May 10, 2007, the Department set the deadlines for submission of case and rebuttal briefs as May 21, 2007, and May 29, 2007, respectively. On May 10, 2007, the Coalition for the Preservation of American Brake Drum and Rotor Aftermarket Manufacturers (“the Petitioner”), requested a 5-day extension of time to submit rebuttal briefs. On May 15, 2007, the Department granted the Petitioner's request and extended the deadline for submission of rebuttal briefs to June 5, 2007, for all parties.

Extension of Time Limit of Final Results

Section 751(a)(3)(A) of the Tariff Act of 1930 (the “Act”) requires the Department to issue the final results within 120 days after the date on which the preliminary results are published. However, if it is not practicable to complete this review within the time period, section 751(a)(3)(A) of the Act allows the Department to extend the deadline for the final results to a maximum of 180 days after the publication date of the preliminary results.

The Department determines that completion of the final results of these reviews within the statutory time period is not practicable. The Department requires additional time to analyze comments regarding the 19 respondents, including 15 separate-rate respondents and three mandatory respondents in the administrative review and one respondent in the new shipper review. Therefore, given the number and complexity of issues and companies in this case, and in accordance with sections 751(a)(3)(A) and 751(a)(2)(B)(iv) of the Act, we are extending the time period for issuing the final results of review by 46 days to 166 days after the publication of the preliminary results. Therefore, the final results will be due no later than July 31, 2007.

This notice is published pursuant to sections 751(a)(3)(A) and 777(i) of the Act.

Dated: June 5, 2007.
Stephen J. Claeys,
Deputy Assistant Secretary for Import Administration.

[FR Doc. E7-11251 Filed 6-8-07; 8:45 am]

BILLING CODE 3510-DS-S